DEPARTMENT OF TRANSPORTATION

Federal Highway Administration

[Docket No. FHWA-2016-0022]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under SUPPLEMENTARY INFORMATION. We are required to publish this notice in the Federal Register by the Paperwork Reduction Act of 1995.

DATES: Please submit comments by October 31, 2016.

ADDRESSES: You may submit comments identified by DOT Docket ID Number 2016-0022 by any of the following methods:

Web site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: Derek Constable, 202-366-4606, or Shay Burrows, 202-366-4675, Office of Bridges and Structures, Federal Highway Administration, Department of Transportation, 1200 New Jersey Avenue SE., Washington, DC 20590. Office hours are from 8 a.m. to 5 p.m., Monday through Friday, except Federal holidays.

SUPPLEMENTARY INFORMATION: Title: Information Collection for the FAST Act Section 1422 Study on Performance of Bridges.

Background: Section 1422 of the Fixing America's Surface Transportation (FAST) Act of 2015 calls for the FHWA to commission the Transportation Research Board to conduct a study on the performance of bridges funded by the Innovative Bridge Research and Construction (IBRC) program as provided under section 503(b) of Title 23, United States Code, and in effect on the day before the date of enactment of the Safe, Accountable, Flexible, Efficient Transportation Equity Act: A Legacy for Users (SAFETEA-LU) of 2005. The IBRC program was originated by the Transportation Equity Act for the 21st Century (TEA-21) of 1998 with the purpose of demonstrating the application of innovative material technology in the construction of bridges and other structures. Seven program goals were identified in TEA-21. SAFTEA-LU continued the program, but amended the program name, purpose, and goals. The program was then discontinued with the passage of the Moving Ahead for Progress in the 21st Century Act (MAP-21) of 2012. The FAST Act directs FHWA to commission the Transportation Research Board to conduct a study on the performance of bridges that received funding under the IBRC program. The IBRC program awarded funds from Federal fiscal year 1998 through 2005 allocations to help defray costs on approximately 445 projects.

The study will include an analysis of the performance of bridges that received funding under the IBRC program in meeting the program goals. The study will include an analysis of the utility, compared to conventional materials and technologies, of each of the innovative materials and technologies used in projects for bridges under the program in meeting the present and future needs of the United States in 2015 and in the future for a sustainable and low lifecycle cost transportation system. The study will make recommendations to Congress on how the installed and lifecycle costs of bridges could be reduced through the use of innovative materials and technologies, including, as appropriate, any changes in the design and construction of bridges needed to maximize the cost reductions. The study will include a summary of any additional research that may be needed to further evaluate innovative approaches to reducing the installed and lifecycle costs of highway bridges.

By separate action the FHWA will be providing public notice of the study proposal with opportunity for comment.

The conduct of this study will require that each State, that received funds under the IBRC program, provide to the Transportation Research Board any relevant information and data needed to carry out the study. Recipients of IBRC funding may be asked to provide information and data by interview, survey, and/or release of records. Interviews and surveys may be required to determine which projects to focus investigations and to gather relevant background, cost, and performance information. Records required may include data, documents, and reports associated with design, construction, in-service inspection, maintenance, evaluation, monitoring, and other relevant phases or activities. The study will make use of the IBRC project information previously supplied to the FHWA, but this information is generally insufficient to accomplish the study objectives.

Respondents: Approximately the 50 States, District of Columbia, and Puerto Rico. The respondents may need to provide information and data for multiple projects if awarded IBRC program funding for multiple projects. There are an estimated 445 projects requiring different levels of information collection.

Frequency: This is a one-time study.

Estimated Average Burden per Project: On average approximately 5.25 hours per project.

Estimated Total Annual Burden Hours: Approximately 2,336 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Michael Howell,
Information Collection Officer.

[FR Doc. 2016-20931 Filed 8-30-16; 8:45 am]

BILLING CODE 4910-22-P